DEPARTMENT OF ENERGY

Federal Energy Regulatory Commission

[Project No. 4451-024]

Green Mountain Power Corporation, City of Somersworth, New Hampshire; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: P-4451-024.

c. Date filed: April 30, 2020.

d. Applicant: Green Mountain Power and the City of Somersworth, New Hampshire.

e. Name of Project: Lower Great Falls Hydroelectric Project.

f. Location: On the Salmon Falls River in Strafford County, New Hampshire, and York County, Maine. No federal lands are occupied by the project works or located within the project boundary.

g. Filed Pursuant to: Federal Power Act 16 U.S.C. 791(a)-825(r).

h. Applicant Contact: Mr. John Greenan, Green Mountain Power Corporation, 1252 Post Road, Rutland, VT 05701; Phone at (802) 770-2195, or email at john.greenan@greenmountainpower.com.

i. FERC Contact: Amanda Gill at (202) 502-6773, or amanda.gill@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 70 days from the date of filing of the application, and serve a copy of the request on the applicant.

l. Deadline for filing additional study requests and requests for cooperating agency status: July 9, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. Project Description: The existing Lower Great Falls Hydroelectric Project consists of: (1) A 297-foot-long, 32-foot-high stone masonry and concrete dam that includes the following sections: (a) A 176-foot-long spillway section with a crest elevation of 102.37 feet National Geodetic Vertical Datum of 1929 (NGVD) and 4-foot-high flashboards at an elevation of 106.37 feet NGVD at the top of the flashboards; (b) a 50-foot-long left abutment section; and (c) a 71-foot-long right abutment section; (2) a 32-acre impoundment with a normal elevation of 106.37 feet NGVD; (3) a 40.5-foot-wide, 20-foot-high intake structure with four 5-foot-wide, 10.5-foot-high steel frame gates and a trashrack with 2-inch bar spacing; (4) two steel penstocks that include: (a) An 8.5-foot-diameter, 120-foot-long left penstock that bifurcates into a 5.3-foot-diameter, 85-foot-long section and a 7.6-foot-diameter, 85-foot-long section; and (b) an 8.5-foot-diameter, 140-foot-long right penstock that bifurcates into a 7-foot-diameter, 85-foot-long section and a 7.6-foot-diameter, 85-foot-long section; (5) a 46-foot-long, 30-foot-wide concrete and brick powerhouse with four Francis turbine-generator units with a total capacity of 1.28 megawatt (MW); (6) a 55-foot-long, 30-foot-wide tailrace; (7) a 260-foot-long underground transmission line that delivers power to a 4.16-kilovolt distribution line; and (8) appurtenant facilities. The project creates a 250-foot-long bypassed reach of the Salmon Falls River between the dam and the downstream end of the tailrace.

The project operates as a run-of-river (ROR) facility with no storage or flood control capacity. The project impoundment is maintained at a flashboard crest elevation of 106.37 feet NGVD. The current license requires the project to maintain a continuous minimum flow of 6.05 cubic feet per second (cfs) or inflow, whichever is less, to the bypassed reach for the purpose of protecting and enhancing aquatic resources in the Salmon Falls River. The average annual generation production of the project was 3,916,825 kilowatt-hours from 2005 through 2018.

The applicant proposes to: (1) Continue operating the project in a ROR mode; (2) provide a minimum flow of 30 cfs or inflow, whichever is less, to the bypassed reach; (3) install an eel ramp for upstream eel passage at the project; (4) implement targeted nighttime turbine shutdowns to protect eels during downstream passage; (5) install a downstream fish passage structure for eels and other fish species.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4451). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—July 2020

Request Additional Information—July 2020

Issue Acceptance Letter—October 2020

Issue Scoping Document 1 for comments—November 2020

Request Additional Information (if necessary)—January 2021

Issue Scoping Document 2—February 2021

Issue Notice of Ready for Environmental Analysis—February 2021

Commission issues Environmental Assessment—August 2021

Final amendments to the application must be filed with the Commission no later than 30 days from the issuance date of the notice of ready for environmental analysis.

Kimberly D. Bose,
Secretary.

[FR Doc. 2020-10842 Filed 5-19-20; 8:45 am]

BILLING CODE 6717-01-P